DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Processed Products Family of Forms.

OMB Control Number: 0648-0018.

Form Number(s): NOAA 88-13 and NOAA 88-13C.

Type of Request: Regular (revision of a current information collection).

Number of Respondents: 2,038.

Average Hours per Response: Annual report, 30 minutes; monthly report; 15 minutes; one-time add-on to the annual survey, 30 minutes.

Burden Hours: 651.

Needs and Uses: National Oceanic and Atmospheric Administration (NOAA) annually collects information from seafood and industrial fishing processing plants on the volume and value of their processed fishery products and their monthly employment figures. NOAA also collects monthly information on the production of fish meal and oil. The information gathered is used by NOAA in the economic and social analyses developed when proposing and evaluating fishery management actions. Revision: a one-time survey will be added to the annual report, also to include processors not reporting under OMB Control No. 0648-0018. The objective of the survey is to collect information on seafood plant characteristics, plant ownership, operating costs, capital costs, labor and revenue related to the processing of marine fish species. The information collected in this survey will be used to provide information on potential impacts of management decisions on the fishing industry. In general, analysis of cost and revenue information for the seafood processing plant and other activities of the plant allow analysts to estimate the economic contributions and impacts of marine fish processing to each coastal state and nationwide.

Affected Public: Business or other for-profit organizations.

Frequency: Monthly, annually and one time.

Respondent's Obligation: Annual report and add-on survey, voluntary; monthly report, mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 7, 2014.
Glenna Mickelson,
Management Analyst, Office of the Chief Information Officer.

[FR Doc. 2014-24291 Filed 10-10-14; 8:45 am]

BILLING CODE 3510-22-P